DEPARTMENT OF HEALTH AND HUMAN SERVICES

National Institutes of Health

National Cancer Institute; Amended Notice of Meeting

Notice is hereby given of a change in the meeting of the National Cancer Institute Special Emphasis Panel, October 26, 2016, 11:00 a.m. to October 26, 2016, 5:00 p.m., National Cancer Institute Shady Grove, 9609 Medical Center Drive, 4W034, Rockville, MD 20850 which was published in the Federal Register on August 25, 2016, 81 FR 58524.

The meeting notice is amended to change the date of the meeting to November 15, 2016 from 11:00 a.m. to 5:00 p.m. The meeting is closed to the public.

Dated: September 6, 2016.
Melanie J. Gray,
Program Analyst, Office of Federal Advisory Committee Policy.

[FR Doc. 2016-21786 Filed 9-9-16; 8:45 am]

BILLING CODE 4140-01-P